DEPARTMENT OF AGRICULTURE

Rural Housing Service

Rural Business-Cooperative Service

Rural Utilities Service

Farm Service Agency

7 CFR Part 1951

RIN 0560-AG56

Prompt Disaster Set-Aside Consideration and Primary Loan Servicing Facilitation

AGENCY: Farm Service Agency, USDA.

ACTION: Final rule; correction.

SUMMARY: This document corrects a final rule published September 25, 2003, which provided disaster set-aside more quickly to those who can most benefit from the program. This document is necessary to correct an editorial mistake relating to the amount which may be set aside.

DATE: This rule is effective on December 16, 2003.

FOR FURTHER INFORMATION CONTACT: Michael Cumpton, Farm Loan Programs, Loan Servicing and Property Management Division, United States Department of Agriculture, Farm Service Agency, STOP 0523, 1400 Independence Avenue, SW., Washington, DC 20250-0523, telephone (202) 690-4014; electronic mail: mike_cumpton@wdc.usda.gov.

SUPPLEMENTARY INFORMATION: This document corrects a final rule which amended 7 CFR part 1951 published in the Federal Register on September 25, 2003 (68 FR 55299-55304). Section 1951.954(b)(3), as promulgated incorrectly states, “The installment that may be set aside is limited to the first or second scheduled annual installment due after the disaster occurred and the amount may not exceed the installment set aside.” This document removes the words, “and the amount may not exceed the installment set aside” as extraneous. The maximum set-aside amount is covered by paragraph (b)(4). This correction will make the regulation more clear.

For the reason set forth above, the final rule published on September 25, 2003 (68 FR 55299-55304), FR Doc. 03-24177, is corrected as follows:

1. On page 55303, in the third column, revise § 1951.954(b)(3) to read as follows:

§ 1951.954 Eligibility and loan limitation requirements.

* * * * *

(b) * * *

(3) The amount set-aside may not exceed the amount of the first or second scheduled annual installment due after the disaster occurred.

* * * * *

Signed in Washington, DC, on December 10, 2003.
Floyd D. Gaibler,
Under Secretary for Farm and Foreign Agricultural Services.

[FR Doc. 03-31002 Filed 12-15-03; 8:45 am]

BILLING CODE 3410-05-P